DEPARTMENT OF ENERGY

Federal Energy Regulatory Commission

Combined Notice of Filings #2

Take notice that the Commission received the following electric rate filings:

Docket Numbers: ER17-1329-005.

Applicants: J.P. Morgan Ventures Energy Corporation.

Description: Compliance filing: MBR Compliance Filing of JPMVEC to be effective 1/20/2025.

Filed Date: 12/31/24.

Accession Number: 20241231-5237.

Comment Date: 5 p.m. ET 1/21/25.

Docket Numbers: ER25-830-000.

Applicants: Fitchburg Gas and Electric Light Company.

Description: 205(d) Rate Filing: Wholesale Distribution Tariff Baseline to be effective 3/1/2026.

Filed Date: 12/30/24.

Accession Number: 20241230-5384.

Comment Date: 5 p.m. ET 1/21/25.

Docket Numbers: ER25-831-000.

Applicants: Westlands Transmission Project Owner, LLC.

Description: 205(d) Rate Filing: Amendments to TSAs and Request for Waiver to be effective 12/31/9998.

Filed Date: 12/31/24.

Accession Number: 20241231-5001.

Comment Date: 5 p.m. ET 1/21/25.

Docket Numbers: ER25-832-000.

Applicants: Consolidated Edison Company of New York, Inc.

Description: 205(d) Rate Filing: PASNY RY3 and NYPA REACH to be effective 1/1/2025.

Filed Date: 12/31/24.

Accession Number: 20241231-5003.

Comment Date: 5 p.m. ET 1/21/25.

Docket Numbers: ER25-833-000.

Applicants: American Transmission Systems, Incorporated.

Description: 205(d) Rate Filing: ATSI submits one Wholesale Load or Affiliate Counter Party CSA, SA No. 6641 to be effective 3/2/2025.

Filed Date: 12/31/24.

Accession Number: 20241231-5043.

Comment Date: 5 p.m. ET 1/21/25.

Docket Numbers: ER25-834-000.

Applicants: MidAmerican Central California Transco, LLC.

Description: 205(d) Rate Filing: 2024 Annual Update TRBAA FIling to be effective 12/1/2024.

Filed Date: 12/31/24.

Accession Number: 20241231-5100.

Comment Date: 5 p.m. ET 1/21/25.

Docket Numbers: ER25-835-000.

Applicants: Golden Spread Electric Cooperative, Inc.

Description: 205(d) Rate Filing: WPC Amendments Ex B Formula Rate Template to be effective 1/1/2025.

Filed Date: 12/31/24.

Accession Number: 20241231-5229.

Comment Date: 5 p.m. ET 1/21/25.

Docket Numbers: ER25-836-000.

Applicants: J.P. Morgan Ventures Energy Corporation.

Description: Tariff Amendment: Reactive Tariff Cancellation of JPMVEC to be effective 3/3/2025.

Filed Date: 12/31/24.

Accession Number: 20241231-5240.

Comment Date: 5 p.m. ET 1/21/25.

Docket Numbers: ER25-837-000.

Applicants: J.P. Morgan Ventures Energy Corporation.

Description: Tariff Amendment: Rate Schedule No. 1 Cancellation of JPMVEC to be effective 3/3/2025.

Filed Date: 12/31/24.

Accession Number: 20241231-5243.

Comment Date: 5 p.m. ET 1/21/25.

Docket Numbers: ER25-838-000.

Applicants: Wabash Valley Power Association, Inc.

Description: Tariff Amendment: Notice of Cancellation of Volume 2 of Formulary Rate Tariff to be effective 1/1/2025.

Filed Date: 12/31/24.

Accession Number: 20241231-5292.

Comment Date: 5 p.m. ET 1/21/25.

Docket Numbers: ER25-839-000.

Applicants: Entergy Louisiana, LLC.

Description: 205(d) Rate Filing: ELL-1803 Elec Coop Inc. WDS Agreement to be effective 1/1/2025.

Filed Date: 12/31/24.

Accession Number: 20241231-5344.

Comment Date: 5 p.m. ET 1/21/25.

Docket Numbers: ER25-840-000.

Applicants: Consolidated Edison Company of New York, Inc.

Description: 205(d) Rate Filing: WDS RY3 12-2024 to be effective 1/1/2025.

Filed Date: 12/31/24.

Accession Number: 20241231-5352.

Comment Date: 5 p.m. ET 1/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 31, 2024.
Debbie-Anne A. Reese,
Secretary.

[FR Doc. 2025-00092 Filed 1-6-25; 8:45 am]

BILLING CODE 6717-01-P